DEPARTMENT OF HOMELAND SECURITY

Coast Guard

[USCG-2003-14500]

Merchant Mariner's Documents: Forms and Procedures for Renewals and Issuances

AGENCY: Coast Guard, DHS.

ACTION: Notice of policy.

SUMMARY: The Coast Guard published a notice in the Federal Register on Thursday, February 20, 2003, in which we stated: “The Coast Guard will begin issuing Merchant Mariner's Documents (MMDs) [on] a new form to new applicants as soon as possible.” The Coast Guard has since implemented new, more secure procedures to process new or “original” applicants and is now issuing MMDs on the new form.

DATES: The Coast Guard began issuing MMDs to original applicants on the new form on February 28, 2003.

FOR FURTHER INFORMATION CONTACT: If you have questions on this notice, call Mr. Donald J. Kerlin, Deputy Director, Coast Guard National Maritime Center (NMC), (202) 493-1006.

SUPPLEMENTARY INFORMATION: MMDs both serve as identity cards for merchant mariners and provide information about the mariners' professional qualifications. MMDs, in the previously issued form (CG-2838 [Rev. 7-94]), serve the second of these purposes well enough; however, they no longer serve the first with sufficient confidence. The Coast Guard is replacing them using a new form (CG-2838 [Rev. 09/02]) that it will issue through a more secure process. It will make every effort to effect a smooth and easy transition from the old form to the new form. The issuance of MMDs on the new form for original applicants began on February 28, 2003.

Mariners may encounter delays incident to the new processes now in practice. For further information, mariners may contact their nearest Regional Exam Centers (RECs), a list of which appears at 46 CFR 12.01-7, or call Mr. Donald Kerlin at the National Maritime Center, 4200 Wilson Boulevard, Suite 630, Arlington, VA 22203-1804, (202) 493-1006.

Authority: 46 U.S.C. 7301, 7302, 7303, 7304, 7305, 7503, 7505, and Department of Homeland Security Delegation No. 0170.

Dated: March 13, 2003.

Kevin J. Eldridge,
Rear Admiral, Coast Guard, Assistant Commandant for Governmental and Public Affairs.

[FR Doc. 03-8451 Filed 4-7-03; 8:45 am]

BILLING CODE 4910-15-U